DEPARTMENT OF TRANSPORTATION

Federal Aviation Administration

Agency Information Collection Activities: Requests for Comments; Clearance of Renewed Approval of Information Collection: Laser Operations in the Navigable Airspace (Advisory Circular (AC), Outdoor Laser Operations Previously Mistitled Notice of Proposed Outdoor Laser Operations

AGENCY: Federal Aviation Administration (FAA), DOT.

ACTION: Notice and request for comments.

SUMMARY: In accordance with the Paperwork Reduction Act of 1995, FAA invites public comments about our intention to request the Office of Management and Budget (OMB) approval to reinstate a previously approved information collection. The Federal Register Notice with a 60-day comment period soliciting comments on the following collection of information was published on August 31, 2017. In that the notice the collection was mistitled: “Laser Operations in the Navigable Airspace (Advisory Circular (AC), Outdoor Laser Operations.” We received no comments. In order for the FAA to ensure safety it proposes to collect information from potential outdoor laser operators. The FAA will review the proposed laser activity against air traffic operations and verify that the laser operation will not interfere with air traffic operations.

DATES: Written comments should be submitted by January 2, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at (940) 594-5913, or by email at: Barbara.L.Hall@faa.gov.

SUPPLEMENTARY INFORMATION:

OMB Control Number: 2120-0662.

Title: Laser Operations in the Navigable Airspace (Advisory Circular (AC), Outdoor Laser Operations.

Form Numbers: FAA Form AC 7140-1.

Type of Review: Reinstatement of an information collection.

Background: The Federal Register Notice with a 60-day comment peri0d soliciting comments on the following collection of information was published on August 31, 2017(82 FR 41463). No comments were received. The FAA will use the information gathered from laser operators planning to conduct outdoor laser operations to evaluate potential hazards to aircraft operating in the National Airspace System (NAS). Ultimately, the goal is to prevent an aircraft from being hit by the laser operation. The information will be reviewed by one of the three FAAs service centers and sent to the facility, which can be a Tower, TRACON or Center, that is being impacted by the operation. The faculty will review the proposed operation and state no objection or list an objection to the operation. If the facility lists an objection, then the service center will contact the proponent and see if adjustments can be made to the proposed operation.

Respondents: Approximately 405 laser operations.

Frequency: One time per laser operation.

Estimated Average Burden per Response: Approximately 4 hours per form.

Estimated Total Annual Burden: An estimated 1,620 hours.

Issued in Washington, DC on November 1, 2017.
Barbara Hall,
FAA Information Collection Clearance Officer, Performance, Policy, and Records Management Branch, ASP-110.

[FR Doc. 2017-25841 Filed 11-29-17; 8:45 am]

BILLING CODE 4910-13-P